DEPARTMENT OF AGRICULTURE

Submission for OMB Review; Comment Request

August 17, 2021.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by October 7, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Beef Management, Marketing, And Biosecurity Surveys In Illinois & Oklahoma—2021.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. NASS will conduct a survey of beef cattle operators in Oklahoma and Illinois. These surveys are being conducted under cooperative agreements with the Oklahoma State University (OSU) and the University of Illinois at Urbana-Champaign (UIUC) on a full cost recovery basis.

Selected farmers in Oklahoma will be asked to provide data on:

Oklahoma Beef Management & Marketing Survey

• Characteristics of the cattle operation,

• Current management and marketing practices,

• Calf management and marketing practices,

• Sources of information, and

• Characteristics of the cattle producer.

Oklahoma Biosecurity Practices Survey

• Characteristics of the cattle operation,

• Current herd management practices,

• Biosecurity practices and animal movement,

• Disease knowledge, and

• Characteristics of the cattle producer.

For the Illinois Biosecurity Practices Survey, selected farmers in Illinois will be asked to provide data on:

• Characteristics of the cattle producer & operation,

• Disease prevention measures,

• Animal health management practices,

• Farm and animal management practices, and

• Disease risk perceptions and knowledge.

General authority for these data collection activities is granted under U.S.C. title 7, section 2204. This project is conducted as a cooperative effort with the Hawaii Department of Agriculture. Funding for this survey is being provided by the Hawaii Department of Agriculture.

Need and Use of the Information: For Beef Management and Marketing Survey, OSU, as well as many farmers and ranchers in Oklahoma, have been interested in keeping informed of current trends and practices within the cattle industry. The primary use of this data will be for OSU research and extension and USDA APHIS to better understand the animal movement, producers' knowledge base and concerns, and support continuous research on the cattle industry and develop more effective extension programs for cattle producers.

The OK and IL Biosecurity Surveys address the fact that producers are encouraged to have a biosecurity plan in place for their herd. To assist UIUC, OSU and other State and Federal agencies on guiding producers through those plans, it is important that this source of information is unbiased and relevant to the industry in their area. Current information sources are limited and rarely localized. The primary use of this data will be for UIUC and OSU research and extension and USDA APHIS to better understand the animal movement, producers' knowledge base and concerns, and support continuous research on the cattle industry and develop more effective extension programs for cattle producers in their respective States.

Description of Respondents: A sample of all active agricultural operations with beef cattle in Illinois and Oklahoma.

Number of Respondents: 14,000.

Frequency of Responses: Reporting: Once a year.

Total Burden Hours: 5,223.

Levi S. Harrell,
Departmental Information Collection Clearance Officer.

[FR Doc. 2021-19363 Filed 9-3-21; 8:45 am]

BILLING CODE 3410-20-P